DEPARTMENT OF EDUCATION

[Docket No. ED-2013-ICCD-0131]

Agency Information Collection Activities; Comment Request; Student Assistance General Provisions

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before December 24, 2013.

ADDRESSES: Comments submitted in response to this notice should be submitted electronically through the Federal eRulemaking Portal at http://www.regulations.gov by selecting Docket ID number ED-2013-ICCD-0131 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E105, Washington, DC 20202-4537.

FOR FURTHER INFORMATION CONTACT: For questions related to collection activities or burden, please call Kate Mullan, 202-401-0563 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions.

OMB Control Number: 1845-0022.

Type of Review: A revision of an existing information collection.

Respondents/Affected Public: Individuals or households, Private Sector, State, Local, or Tribal Governments.

Total Estimated Number of Annual Responses: 1,321,918.

Total Estimated Number of Annual Burden Hours: 2,138,320.

Abstract: The Department of Education is requesting a revision of the current burden hours in 1845-0022 which is expiring. Sections of the regulations in 34 CFR part 668 Student Assistance General Provisions establish the standards to participate in the student financial aid assistance programs authorized by Title IV of the Higher Education Act of 1965, as amended. Other sections of the regulations also establishes required information that must be provided to students, the financial responsibility requirements of the institution, and the cohort default rates that apply to institutions. These regulations help to assure the Secretary that the integrity of the programs is protected from fraud and misuse of program funds. ED is administratively transferring a small amount of burden from sections 34 CFR 668.23 and 668.24 that previously were included in OMB Collection Number 1845-0038 to correct an error that was made in the transfer of this information collection from the Office of Postsecondary Education (1840) to Federal Student Aid (1845). There have been no changes to the statutory or regulatory language since the prior information collection filing.

Dated: October 22, 2013.
Stephanie Valentine,
Acting Director, Information Collection Clearance Division, Privacy, Information and Records Management Services, Office of Management.

[FR Doc. 2013-25123 Filed 10-24-13; 8:45 am]

BILLING CODE 4000-01-P